INTERNATIONAL TRADE COMMISSION

[Investigation No. 731-TA-1296 (Final)]

Hot-Rolled Steel Flat Products From Turkey; Request for Comments Regarding the Institution of a Section 751(b) Review Concerning the Commission's Affirmative Determination; Correction

AGENCY: U.S. International Trade Commission.

ACTION: Notice; correction.

SUMMARY: Correction is made to the deadline for filing comments.

SUPPLEMENTARY INFORMATION:

Correction

In the Federal Register of December 2, 2021 (86 FR 68513) in FR Doc. 2021-26222, on page 68513, in the second column, in the Written submissions section, the date of the deadline for filing comments should be January 3, 2022.

Issued: December 2, 2021.
Lisa Barton,
Secretary to the Commission.

[FR Doc. 2021-26539 Filed 12-7-21; 8:45 am]

BILLING CODE 7020-02-P